DEPARTMENT OF LABOR

Office of the Assistant Secretary for Office of Disability Employment Program, National Technical Assistance and Demonstration Center on Preparing Youth With Disabilities for Employment

AGENCY: Office of Disability Employment Policy, Department of Labor.

Announcement Type: New Notice of Availability of Funds and Solicitation for Grant Applications (SGA) for Cooperative Agreements. The full announcement is posted on http://www.grants.gov.

Funding Opportunity Number: SGA 12-06.

Key Dates: The closing date for receipt of applications is August 17, 2012.

Funding Opportunity Description

The U.S. Department of Labor (DOL or Department), Office of Disability Employment Policy (ODEP) announces the availability of approximately $1.1 million to fund a cooperative agreement to manage and operate its National Technical Assistance and Demonstration Center on Preparing Youth with Disabilities for Employment (Center). The Center will continue to build upon the work of ODEP's previously funded youth technical assistance center, the National Collaborative on Workforce and Disability for Youth (NCWD/Y).

The Center will provide technical assistance, training, and information to Workforce Investment Act (WIA)-funded youth programs and current and former DOL grantees to aid them in integrating evidence-based effective practices for improving transition results for young people with disabilities enrolled in these programs. The Center will use the Guideposts for Success as a transition framework and recognize that youth, families, educators, workforce professionals and other stakeholders must work together to increase employment expectations for youth with disabilities. The Center will build capacity within and across both generic and disability-specific youth service delivery systems to improve employment and post-secondary education outcomes for youth with disabilities. To accomplish this goal the Center will focus on the following three areas:

Career Exploration, Management and Planning: Providing technical assistance around strategies to improve pathways to further education and careers for youth with disabilities;

Youth Development and Leadership: Increasing the knowledge and leadership skills of youth receiving services from a variety of systems, enabling youth to become engaged stakeholders and skilled contributors to youth serving systems;

Professional Development: Working to increase the capacity of youth-serving systems to provide quality training to staff, which will result in improved services and better outcomes for all youth, including those with disabilities.

The Center will work in collaboration with Federal, state and local agencies across multiple systems including education, workforce, juvenile justice, foster care, transportation, mental health, vocational rehabilitation and others on effective practices and other issues related to the transition of youth. To improve outcomes for youth ages 12 to 24, the Center will utilize social media and other electronic tools to influence its target audience of youth as they transition to adulthood and the people who support them, including their peers, families, educators, workforce professionals, and policymakers. The Center will maintain an accessible Web site containing online resources and publications and will conduct trainings both in person and electronically. The Center will conduct outreach and establish and maintain effective working relationships and collaborations with a broad range of entities with the goal of sharing knowledge and promoting the adoption and implementation of policies and effective practices that improve transition outcomes. The Center will contribute to ODEP's annual performance measures through the development of policies and effective practices, the dissemination of this information, and the promotion of their adoption and implementation.

Funding of up to $1.1 million will be awarded through a competitive process for a 12-month period of performance, with the possibility of up to 4 option years of funding depending on the availability of funds and satisfactory performance.

This solicitation provides background information, describes the application submission requirements, outlines the process that eligible entities must use to apply for funds covered by this solicitation, and outlines the evaluation criteria used as a basis for selecting the grantee.

The full Solicitation for Grant Applications is posted on http://www.grants.gov under U.S. Department of Labor/ODEP. Applications submitted through http://www.grants.gov or hard copy will be accepted. If you need to speak to a person concerning these grants, you may telephone Cassandra Mitchell at 202-693-4570 (not a toll-free number). If you have issues regarding access to the http://www.grants.gov Web site, you may telephone the Contact Center Phone at 1-800-518-4726.

Signed in Washington, DC, this 19th day of July 2012.
Cassandra R. Mitchell,
Grant Officer.

[FR Doc. 2012-18090 Filed 7-24-12; 8:45 am]

BILLING CODE 4510-FT-P